DEPARTMENT OF HEALTH AND HUMAN SERVICES

Administration for Children and Families

Notice of Correction for Community-Based Abstinence Education Program Announcement

AGENCY: Family and Youth Services Bureau (FYSB), Administration on Children, Youth and Families (ACYF), Administration for Children and Families (ACF), Health and Human Services (HHS).

Funding Opportunity Title: Community-Based Abstinence Education.

ACTION: Notice of correction.

Funding Opportunity Number: HHS-2005-ACF-ACYF-AE-0099.

SUMMARY: This notice is to inform interested parties of corrections made to the Community-Based Abstinence Education program announcement that published on May 20, 2005. The following corrections should be noted:

Under Section I. Funding Opportunity Description, Program Purpose and Scope, within the seventh paragraph, revise the following sentence from:

“Programs that utilize this definition promote ‘abstinence Sex education programs that promote the use of contraceptives are not eligible for funding under this announcement.”

To: “Programs that utilize this definition promote an “abstinence until marriage message.” Sex education programs that promote the use of contraceptives are not eligible for funding under this announcement”.

Under Section II. Award Information after “Average Projected Award Amount Per Budget Period: $459,000” insert the following:

Length of Project Periods: Three year project period with 12 month budget periods.

Under Section IV.2 Application Submission Information, Content and Form of Application Submission, revise the sentence “Electronic submission is voluntary” to state: “Electronic submission is voluntary, but strongly encouraged.”.

The only changes to the Community-Based Abstinence Education program announcement are explicitly stated in this Notice of Correction. All applications must still be sent on or before the deadline date of June 20, 2005.

FOR FURTHER INFORMATION CONTACT: Jeffrey S. Trimbath, Director, Abstinence Education, 1-866-796-1591.

Dated: May 26, 2005.
Frank Fuentes,
Deputy Commissioner, Administration on Children, Youth and Families.

[FR Doc. 05-10960 Filed 6-1-05; 8:45 am]

BILLING CODE 4184-01-U